NATIONAL AERONAUTICS AND SPACE ADMINISTRATION

[Notice 01-104]

Government-Owned Inventions, Available for Licensing

AGENCY: National Aeronautics and Space Administration.

ACTION: Notice of availability of inventions for licensing.

SUMMARY: The invention listed below is assigned to the National Aeronautics and Space Administration, has been filed in the United States Patent and Trademark Office, and is available for licensing.

DATES: August 30, 2001.

FOR FURTHER INFORMATION CONTACT: Diana Cox, Patent Counsel, Goddard Space Flight Center, Mail Code 710.1, Greenbelt, MD 20771; telephone (301) 286-7351, fax (301) 286-9512.

NASA Case No. GSC-14305-1: Method For Implementation Of Recursive Hierarchical Segmentation On Parallel Computers.

Dated: August 22, 2001.
Edward A. Frankle,
General Counsel.

[FR Doc. 01-21872 Filed 8-29-01; 8:45 am]

BILLING CODE 7510-01-P